ENVIRONMENTAL PROTECTION AGENCY

[EPA-HQ-OPP-2017-0751; FRL-12707-01-OCSPP]

Pesticide Registration Review; Interim Registration Decision for Dicrotophos; Notice of Availability

AGENCY: Environmental Protection Agency (EPA).

ACTION: Notice.

SUMMARY: This notice announces the availability of EPA's interim registration review decision for dicrotophos.

ADDRESSES: The docket, as identified by the docket identification (ID) number for the specific pesticide of interest as provided in table 1 of unit III., is available online at https://www.regulations.gov. Additional information about dockets generally, along with instructions for visiting the docket in-person, is available at https://www.epa.gov/dockets.

FOR FURTHER INFORMATION CONTACT:

For pesticide specific information, contact: The Chemical Review Manager for the pesticide of interest identified in table 1 of unit I.

For general information on the registration review program, contact: Melanie Biscoe, Pesticide Re-Evaluation Division (7508P), Office of Pesticide Programs, Environmental Protection Agency, 1200 Pennsylvania Ave. NW, Washington, DC 20460-0001; telephone number: 202-566-0701; email address: biscoe.melanie@epa.gov.

SUPPLEMENTARY INFORMATION:

I. General Information

A. Does this action apply to me?

This action is directed to the public in general and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, contact the Chemical Review Manager identified in table 1 of this document.

B. What is registration review?

Registration review is EPA's periodic review of pesticide registrations to ensure that each pesticide continues to satisfy the statutory standard for registration, that is, the pesticide can perform its intended function without unreasonable adverse effects on human health or the environment. Through this program, EPA is ensuring that each pesticide's registration is based on current scientific and other knowledge, including its effects on human health and the environment. For additional background on the registration review program, see: https://www.epa.gov/pesticide-reevaluation.

II. What is the Agency's authority for this action?

EPA is conducting its registration review of the chemicals listed in this document pursuant to section 3(g) of the Federal Insecticide, Fungicide, and Rodenticide Act (FIFRA), 7 U.S.C. 136 et seq., and 40 CFR part 155, subpart C. FIFRA section 3(g) provides, among other things, that the registrations of pesticides are to be reviewed every 15 years. Under FIFRA, a pesticide product may be registered or remain registered only if it meets the statutory standard for registration given in FIFRA section 3(c)(5) (7 U.S.C. 136a(c)(5)). When used in accordance with widespread and commonly recognized practice, the pesticide product must perform its intended function without unreasonable adverse effects on the environment; that is, without any unreasonable risk to man or the environment, or a human dietary risk from residues that result from the use of a pesticide in or on food.

III. What action is the Agency taking?

Pursuant to 40 CFR 155.58(c), this document announces the availability of EPA's interim registration review decision for the pesticide listed in table 1 of this unit. The interim registration review decision is supported by rationales included in the docket established for each chemical undergoing registration review.

Table 1—Registration Review Interim Decision Being Issued
Registration review case name and No. | Docket ID No. | Chemical review manager
Dicrotophos | EPA-HQ-OPP-2008-0440 | Patricia Biggio, biggio.patricia@epa.gov.

Consistent with 40 CFR 155.58(a), EPA posted a proposed interim decision for dicrotophos and invited the public to submit any comments or new information (89 FR 52457, June 24, 2024 (FRL-11989-01-OCSPP)). EPA considered and responded to any comments or information received during the public comment period in the respective registration review interim decision.

Consistent with 40 CFR 155.57, in its final registration review decision, EPA will ultimately determine whether a pesticide continues to meet the registration standard in FIFRA section 3(c)(5) (7 U.S.C. 136a(c)(5)).

Authority: 7 U.S.C. 136 et seq.

Dated: April 14, 2025.
Jean Anne Overstreet,
Director, Pesticide Re-Evaluation Division, Office of Pesticide Programs.

[FR Doc. 2025-06666 Filed 4-17-25; 8:45 am]

BILLING CODE 6560-50-P